DEPARTMENT OF COMMERCE

National Oceanic and Atmospheric Administration

50 CFR Part 679

[Docket No. 991210329-0273-02; I.D. 102699B]

RIN 0648-AM63

Fisheries of the Exclusive Economic Zone Off Alaska; Bering Sea and Aleutian Islands Area; Amendment 58 To Revise the Chinook Salmon Savings Areas

AGENCY: National Marine Fisheries Service (NMFS), National Oceanic and Atmospheric Administration (NOAA), Commerce.

ACTION: Final rule.

SUMMARY: NMFS issues regulations to implement Amendment 58 to the Fishery Management Plan (FMP) for the Groundfish Fishery in the Bering Sea and Aleutian Islands Area (BSAI). Amendment 58 established a framework to allow NMFS to reduce the annual trawl bycatch limit for chinook salmon and revised the Chinook Salmon Savings Area (CHSSA) in the BSAI. Pursuant to this framework authority, NMFS hereby reduces the annual trawl bycatch limit for chinook salmon. This action is necessary to reduce chinook salmon bycatch and is intended to further the conservation and management objectives of the FMP.

DATES: Effective November 13, 2000.

ADDRESSES: Copies of the Environmental Assessment/Regulatory Impact Review/Final Regulatory Flexibility Analysis (EA/RIR/FRFA) prepared for this action may be obtained from the Alaska Region, NMFS, P.O. Box 21668, Juneau, AK 99802-1668; Attn: Lori Gravel, or by calling the Alaska Region, NMFS, at 907-586-7228. Send any comments on any ambiguity or unnecessary complexity arising from the language used in this final rule to the Regional Administrator, Alaska Region, NMFS, 709 West Ninth Street, Federal Office Building, Suite 453, Juneau, AK 99801.

FOR FURTHER INFORMATION CONTACT: John Lepore, 907-586-7228.

SUPPLEMENTARY INFORMATION: NMFS manages the groundfish fisheries in the BSAI under the FMP. The FMP is implemented by regulations appearing at 50 CFR part 679 issued under authority of the Magnuson-Stevens Fishery Conservation and Management Act (Magnuson-Stevens Act). General regulations governing U.S. fisheries appear at 50 CFR part 600. The North Pacific Fishery Management Council (Council) prepared the FMP under authority of the Magnuson-Stevens Act.

Background

Trawl fisheries in the BSAI, particularly the midwater pollock fishery, incidentally catch chinook salmon. Salmon are a prohibited species in the BSAI groundfish fisheries. They cannot be retained and must be returned to the sea as soon as possible with a minimum of injury after they have been counted by a NMFS- certified observer. However, the mortality rate for salmon caught in trawl fisheries is 100 percent as salmon cannot survive interception by traw l gear. Final regulations published on November 29, 1995 (60 FR 61215), effective January 1996, established annual prohibited species catch (PSC) limits for chinook salmon and specific seasonal no-trawling zones in the CHSSA that are triggered when the limits are reached. These existing regulations prohibit trawling in the CHSSA through April 15 of each year once the bycatch limit of 48,000 chinook salmon, as specified in the FMP, is reached.

In 1999, the Council prepared Amendment 58 to the FMP to further reduce bycatch of chinook salmon by trawl fisheries in the BSAI. NMFS published a notice of availability (NOA) for this amendment in the Federal Register at 64 FR 60157 on November 4, 1999. The public comment period on the NOA ended on January 3, 2000; NMFS approved Amendment 58 on February 2, 2000. NMFS published a proposed rule to implement Amendment 58 on December 21, 1999 (64 FR 71390). The comment period on the proposed rule ended on February 4, 2000. NMFS received two letters commenting on the proposed rule. Both letters expressed strong support for the adoption of the rule with no changes recommended. NMFS concurs and has made no changes to the final rule except that the starting year for the chinook salmon bycatch reductions will be 2001 rather than 2000, as stated in the proposed rule, because the effective date of this final rule will be too late to use 2000 as a starting year. Additional background information supporting Amendment 58 and its implementing rule was published in the Federal Register with the NOA and proposed rule.

Elements of Amendment 58

Amendment 58 and this final rule implement the following regulatory changes to trawl chinook salmon PSC limitations: (1) The chinook salmon bycatch limit is reduced from 48,000 to 29,000 chinook salmon over a 4-year period; (2) year-round accounting of chinook salmon bycatch is established for the pollock fishery, beginning on January 1 of each year; (3) the boundaries defining the CHSSA are revised; and (4) new CHSSA closure dates are established.

Chinook Salmon Savings Area

Amendment 58 redefines the CHSSA as two non-contiguous areas of the BSAI composed of eight geographic blocks, each defined by 1/2° latitude by 1° longitude. Based on historical observer data, this new definition better identifies areas of consistently high chinook salmon bycatch rates in the pollock fishery.

Progressive Reduction of the Chinook Salmon Bycatch Limit

This action prohibits directed fishing for pollock by vessels using trawl gear within the CHSSA when NMFS determines that the bycatch limit for chinook salmon in the BSAI pollock trawl fisheries has been attained for each year according to the following schedule:

Year | Chinook Salmon Limit
2001 | 41,000
2002 | 37,000
2003 | 33,000
2004 and after | 29,000

Accounting for the PSC limit begins on January 1 and continues throughout the fishing year. Non-pollock fisheries, which account for about 10 percent of the trawl chinook salmon bycatch, are exempt from the closure of the CHSSA, and any chinook salmon bycatch in those fisheries is not counted toward the PSC limit.

According to the bycatch data collected, chinook salmon are more likely to be caught in the CHSSA before April 15, and after September 1. Therefore, in the event the chinook salmon limit is triggered before April 15, the CHSSA would close immediately. The closure would be removed on April 15, but would be reinitiated on September 1 and continue through the end of the year. If the limit were reached after April 15, but before September 1, then the CHSSA would close on September 1. If the limit were reached after September 1, the CHSSA would close immediately and not reopen until the following year on January 1.

Classification

This action has been determined to be not significant under E.O. 12866. No new reporting, recordkeeping, or compliance requirements are imposed by this final rule.

NMFS has prepared an FRFA that describes the economic impact this action, if adopted, would have on small entities. A copy of this analysis is available from NMFS (see ADDRESSES). No comments were received on the Initial Regulatory Flexibility Analysis. A summary of the FRFA follows:

The final rule would apply to the 128 fishing vessels permitted in 2000 to fish in the pollock fishery (21 catcher/processor permits, 107 catcher vessel permits). In 1997, pollock vessels harvested about 1.15 million mt of pollock, an ex-vessel value of about $227 million. Under the rule, if a chinook salmon PSC limit is attained, all vessels would be prohibited from directed fishing for pollock within the CHSSA. The rule would affect all 128 vessels, including CDQ vessels. However, the available pollock TAC would not be reduced; only the location of the catch would be restricted. Therefore, this action should not prevent these vessels’ ability to harvest the entire amount, although pollock catch rates could decrease as a direct result of a CHSSA closure. During the summer months when chinook salmon bycatch has been historically very low, the CHSSA would be open to directed fishing for pollock even if the PSC limit has been previously attained. This action specifically targets the pollock fishery, which is composed primarily of large entities, historically responsible for the vast majority of chinook salmon bycatch in the BSAI. All other fisheries in the BSAI, many of which have a higher number and percentage of small entity participation, are exempt from any trawling prohibitions that might result from attainment of a PSC limit under this action. Also, chinook salmon bycatch in these non-pollock fisheries would not be counted toward the cap under this action. These exemptions minimize the impacts on small entities while still achieving the objective of this action, which is an overall reduction in chinook bycatch. In addition, NMFS considered the alternative of maintaining the status quo, which could have minimized impacts on small entities. However, that alternative would not have achieved the objectives of this action. There are no projected recording, recordkeeping, or other compliance requirements in the rule.

The President has directed Federal agencies to use plain language in their communication with the public, including regulations. To comply with this directive, we seek public comment on any ambiguity or unnecessary complexity arising from the language used in this final rule. Such comments should be sent to the Alaska Regional Administrator (see ADDRESSES).

List of Subjects in 50 CFR Part 679

Alaska, Fisheries, Reporting and recordkeeping requirements.

Dated: October 4, 2000.
William T. Hogarth,
Deputy Assistant Administrator for Fisheries, National Marine Fisheries Service.

For the reasons set out in the preamble, 50 CFR part 679 is amended as follows:

PART 679—FISHERIES OF THE EXCLUSIVE ECONOMIC ZONE OFF ALASKA

1. The authority citation for part 679 continues to read as follows:

Authority: 16 U.S.C. 773 et seq., 1801 et seq., and 3631 et seq.

2. In § 679.2, the definition for “Chinook Salmon Savings Area of the BSAI” is revised to read as follows:

§ 679.2 Definitions.

* * * * *

Chinook Salmon Savings Area of the BSAI (see § 679.21(e)(7)(viii)).

* * * * *

3. In § 679.7, paragraph (d)(9) is revised to read as follows:

§ 679.7 Prohibitions.

* * * * *

(d) * * *

(9) For the operator of an eligible vessel listed on an approved CDP, use trawl gear to harvest pollock CDQ in the Chinook Salmon Savings Area between January 1 and April 15, and between September 1 and December 31, after the CDQ group’s chinook salmon PSQ is attained.

* * * * *

4. In § 679.21, paragraphs (e)(1)(vii) and (e)(7)(viii) are revised to read as follows:

§ 679.21 Prohibited species bycatch management.

* * * * *

(e) * * *

(1) * * *

(vii) Chinook salmon. The trawl closures identified in paragraph (e)(7)(viii) of this section will take effect when the Regional Administrator determines that the PSC limit of chinook salmon caught while harvesting pollock in the BSAI between January 1 and December 31 is attained according to the following amounts identified for each year:

Year | Chinook Salmon Limit
2001 | 41,000
2002 | 37,000
2003 | 33,000
2004 and after | 29,000

* * * * *

(7) * * *

(viii) Chinook salmon. (A) Closure. If, during the fishing year, the Regional Administrator determines that catch of chinook salmon, by vessels using trawl gear while directed fishing for pollock in the BSAI, will reach the annual limit, as identified in paragraph (e)(1)(vii) of this section, NMFS, by notification in the Federal Register will close the Chinook Salmon Savings Area, as defined in Figure 8 to this part, to directed fishing for pollock with trawl gear consistent with the following dates:

(1) From the effective date of the closure until April 15, and from September 1 through December 31, if the Regional Administrator determines that the annual limit of chinook salmon will be attained before April 15.

(2) From September 1 through December 31, if the Regional Administrator determines that the annual limit of chinook salmon will be attained after April 15.

* * * * *

5. In part 679, Figure 8 is revised to read as Figure 8a and Figure 8b:

Figure 8a to part 679. Chinook Salmon Savings Areas of the BSAI

a. Map

BILLING CODE 3510-22-S

Figure 8b to part 679. Chinook Salmon Savings Areas of the BSAI

b. Coordinates

[FR Doc. 00-26086 Filed 10-11-00; 8:45 am]

BILLING CODE: 3510-22-C